NUCLEAR REGULATORY COMMISSION

[Docket Nos. 50-321 and 50-366]

Southern Nuclear Operating Company, Inc.; Georgia Power Company; Oglethorpe Power Corporation; Municipal Electric Authority of Georgia; City of Dalton, Georgia; Edwin I. Hatch Nuclear Plant, Units 1 and 2; Notice of Issuance of Renewed Facility Operating Licenses; Nos. DPR-57 and NPF-5 for an Additional 20-year Period

Notice is hereby given that the U.S. Nuclear Regulatory Commission (the Commission) has issued (1) Renewed Facility Operating License No. DPR-57 (the Unit 1 license) and (2) Renewed Facility Operating License No. NPF-5 (the Unit 2 license), to Southern Nuclear Operating Company, Inc., operator of the Edwin I. Hatch Nuclear Plant, Units 1 and 2, and Georgia Power Company, Oglethorpe Power Corporation, Municipal Electric Authority of Georgia, and the City of Dalton, Georgia (the licensees). The Unit 1 license authorizes operation of the Edwin I. Hatch Nuclear Plant, Unit 1, by the licensees at reactor core power levels not in excess of 2763 megawatts thermal in accordance with the provisions of the Unit 1 license and its Technical Specifications. The Unit 2 license authorizes operation of the Edwin I. Hatch Nuclear Plant, Unit 2, by the licensees at reactor core power levels not in excess of 2763 megawatts thermal in accordance with the provisions of the Unit 2 license and its Technical Specifications.

The Edwin I. Hatch Nuclear Plant, Units 1 and 2 (Plant Hatch), are pressurized water nuclear reactors located near Baxley, in Appling County, Georgia.

The application for the renewed licenses complies with the standards and requirements of the Atomic Energy Act of 1954, as amended (the Act), and the Commission's regulations. The Commission has made appropriate findings as required by the Act and the Commission's regulations in 10 CFR chapter I, which are set forth in each license. Prior public notice of the action involving the proposed issuance of these renewed operating licenses and of opportunity for hearing regarding the proposed issuance of these renewed operating licenses was published in the Federal Register on April 3, 2000 (65 FR 17543—17544).

For further details with respect to these actions, see (1) the Southern Nuclear Operating Company's License Renewal Application for Plant Hatch, dated February 29, 2000, as supplemented by letters dated May 31, July 26, August 11, August 21, August 29, August 31, October 10, and December 15, 2000, and February 9, 2001; (2) the Commission's Safety Evaluation Reports dated February 7 and October 5, 2001 (NUREG-1803); (3) the licensees' Safety Analysis Report; and (4) the Commission's Final Environmental Impact Statement (NUREG-1437, Supplement 4), dated May 2001. These items are available at the NRC's Public Document Room, located at One White Flint North, 11555 Rockville Pike, first floor, Rockville, Maryland 20852, and can be viewed from the NRC Public Electronic Reading Room at http://www.nrc.gov/NRC/ADAMS/index.html.

Copies of the Renewed Facility Operating License Nos. DPR-57 and NPF-5, may be obtained by writing to U.S. Nuclear Regulatory Commission, Washington, DC 20555-0001, Attention: Director, Division of Regulatory Improvement Programs. Copies of the Safety Evaluation Report (NUREG-1803) and the Final Environmental Impact Statement (NUREG-1437, Supplement 4) may be purchased from the National Technical Information Service, Springfield, Virginia 22161-0002 (telephone number 1-800-553-6847, (http://www.ntis.gov/ordernow), or the Superintendent of Documents, U.S. Government Printing Office, P.O. Box 371954, Pittsburgh, PA 15250-7954 (telephone number 202-512-1800, (http://www.access.gpo.gov/sudocs). All orders should clearly identify the NRC publication number and the requestor's Government Printing Office deposit account, or VISA or MasterCard number and expiration date.

Dated at Rockville, Maryland, this 15th day of January 2002.
For the Nuclear Regulatory Commission.
William F. Burton,
Project Manager, License Renewal and Environmental Impacts Program, Division of Regulatory Improvement Programs, Office of Nuclear Reactor Regulation.

[FR Doc. 02-1632 Filed 1-22-02; 8:45 am]

BILLING CODE 7590-01-P